CONSUMER PRODUCT SAFETY COMMISSION

16 CFR Parts 1307, 1410, 1500 and 1515

Standards for All Terrain Vehicles and Ban of Three Wheeled All Terrain Vehicles; Notice of Proposed Rulemaking; Correction

AGENCY: Consumer Product Safety Commission.

ACTION: Notice of proposed rulemaking; correction

SUMMARY: The Consumer Product Safety Commission published a notice of proposed rulemaking in the Federal Register of August 10, 2006, regarding all terrain vehicles (“ATVs”). The document contained an incorrect e-mail address to send comments.

FOR FURTHER INFORMATION CONTACT: Elizabeth Leland, Project Manager, ATV Safety Review, Directorate for Economic Analysis, Consumer Product Safety Commission, 4330 East West Highway, Bethesda, Maryland 20814-4408; telephone (301) 504-7706 or e-mail: eleland@cpsc.gov.

Correction

In the Federal Register of August 10, 2006, in FR Doc. 06-6703, on page 45904 in the first column, correct the first paragraph under the ADDRESSES caption to read:

ADDRESSES: Comments shall be filed by e-mail to cpsc-os@cpsc.gov. Comments also may be filed by telefacsimile to (301) 504-0127 or they may be mailed or delivered, preferably in five copies, to the Office of the Secretary, U.S. Consumer Product Safety Commission, 4330 East West Highway, Bethesda, Maryland 20814-4408; telephone (301) 504-7923. Comments should be captioned “ATV NPR.”

Dated: August 30, 2006.
Todd Stevenson,
Secretary, Consumer Product Safety Commission.

[FR Doc. E6-14757 Filed 9-6-06; 8:45 am]

BILLING CODE 6355-01-P